DEPARTMENT OF THE INTERIOR

National Park Service

[N6506; NPS-WASO-NAGPRA-NPS0041051; PPWOCRADN0-PCU00RP14.R50000]

Notice of Intended Repatriation: Denver Art Museum, Denver, CO

AGENCY: National Park Service, Interior.

ACTION: Notice.

SUMMARY: In accordance with the Native American Graves Protection and Repatriation Act (NAGPRA), the Denver Art Museum intends to repatriate certain cultural items that meet the definition of sacred objects/objects of cultural patrimony and that have a cultural affiliation with the Indian Tribes or Native Hawaiian organizations in this notice.

DATES: Repatriation of the cultural items in this notice may occur on or after October 14, 2025.

ADDRESSES: Send additional, written requests for repatriation of the cultural items in this notice to Jennifer (Jennie) Trujillo, Denver Art Museum, 100 W 14th Avenue Parkway, Denver, CO 80204, email jtrujillo@denverartmuseum.org.

SUPPLEMENTARY INFORMATION: This notice is published as part of the National Park Service's administrative responsibilities under NAGPRA. The determinations in this notice are the sole responsibility of the Denver Art Museum, and additional information on the determinations in this notice, including the results of consultation, can be found in the summary or related records. The National Park Service is not responsible for the determinations in this notice.

Abstract of Information Available

A total of six cultural items have been requested for repatriation. The six sacred objects/objects of cultural patrimony are one bundle containing rattles, scalps, a headdress, sweet grass braids, and a robe (1938.223.1-7); one elk bag containing a package of dried tongues and pemmican (1938.136.1-3); one elk bag containing rattles and a necklace (1938.218.1-4); two hairlock necklaces (1938.146 and 1938.174); and one robe (1946.65).

The Denver Art Museum is responding to a 1994 repatriation request from the Blackfeet Indian Reservation of Montana for a sacred bundle (object number 1938.223.1-7) associated with the Blood Tribe (Kainaiwa) of Alberta, Canada, and specifically linked to the individuals Come Singing and Shore Chief. While the initial claim was deferred pending further documentation, the Blackfeet Nation submitted a follow-up request in 1995, endorsed by Chief Roy Fox of the Kainaiwa, seeking a temporary loan of the bundle for use in the Okan Ceremony. In addition to the original bundle, the Blackfeet Nation requested five other sacred objects to complete the ceremonial use of the bundle (Objects 1938.136.1-3, 1938.218.1-4, 1938.146, 1938.174, and 1946.65). The Denver Art Museum approved the loan, with renewals from 1995 to 2000. As of this notice it is assumed, based on prior correspondence, that the items remain in the community in either Montana or Alberta. Although the five additional objects were not included in the original claim, their inclusion in the ceremonial loan request and continued use affirms their sacred status and ongoing cultural, historical, and traditional significance. As such, all six objects are now included in this Notice of Intent to Repatriate.

The six items were originally acquired by the museum from private collector Madge Hardin Walters of San Diego, California. Walters spent time with members of the Blackfeet and Blood Tribes in Montana and Alberta during the 1920s and early 1930s and acquired the objects either directly from tribal members or through intermediaries. However, the museum's records do not confirm whether these objects were transferred voluntarily or under duress, nor whether the original parties had the authority to convey them. Consequently, the Denver Art Museum does not assert a right of possession.

Determinations

The Denver Art Museum has determined that:

• The six sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Blackfeet Tribe of the Blackfeet Indian Reservation of Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 14, 2025. If competing requests for repatriation are received, the Denver Art Museum must determine the most appropriate requestor prior to repatriation. Requests for joint repatriation of the cultural items are considered a single request and not competing requests. The Denver Art Museum is responsible for sending a copy of this notice to the Indian Tribes and Native Hawaiian organizations identified in this notice and to any other consulting parties.

Authority: Native American Graves Protection and Repatriation Act, 25 U.S.C. 3004 and the implementing regulations, 43 CFR 10.9.

Dated: August 29, 2025.
Melanie O'Brien,
Manager, National NAGPRA Program.

[FR Doc. 2025-17616 Filed 9-11-25; 8:45 am]

BILLING CODE 4312-52-P